DEPARTMENT OF COMMERCE

National Oceanic and Atmospheric Administration

[I.D. 071106D]

Fisheries of the Gulf of Mexico; Southeastern Data, Assessment, and Review (SEDAR); Gulf of Mexico Red Grouper

AGENCY: National Marine Fisheries Service (NMFS), National Oceanic and Atmospheric Administration (NOAA), Commerce.

ACTION: Notice of SEDAR Data, Assessment, and Review Workshops for Gulf of Mexico red grouper.

SUMMARY: The SEDAR assessment of the Gulf of Mexico stock of red grouper will be developed through a series of three workshops: a Data Workshop, an Assessment Workshop, and a Review Workshop. This is the twelfth SEDAR. See SUPPLEMENTARY INFORMATION.

DATES: The Data Workshop will take place July 24-28, 2006; the Assessment Workshop will take place October 16-20, 2006; the Review Workshop will take place January 29-February 2, 2007. See SUPPLEMENTARY INFORMATION.

ADDRESSES: The Data Workshop will be held at the Hilton St. Petersburg Bayfront, 333 First Street South, St. Petersburg, FL 33701. Phone (727) 894-5000. The Assessment Workshop will be held at the Doubletree Coconut Grove, 2649 South Bayshore Drive, Miami, FL 33133. Phone (305) 858-2500. The Review Workshop will be held at the Doubletree Atlanta Buckhead, 3342 Peachtree Road NE, Atlanta GA 30326. Phone (404) 231-1234.

FOR FURTHER INFORMATION CONTACT: Steven Atran, Gulf of Mexico Fishery Management Council (GMFMC), 2203 North Lois Avenue, Suite 1100, Tampa FL 33607. Phone: (813) 348-1630. John Carmichael, SEDAR Coordinator, One Southpark Circle # 306, Charleston, SC 29414. (843) 571-4366.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR includes three workshops: 1) Data Workshop, 2) Stock Assessment Workshop and 3) Review Workshop. The product of the Data Workshop is a data report which compiles and evaluates potential datasets and recommends which datasets are appropriate for assessment analyses. The product of the Stock Assessment Workshop is a stock assessment report which describes the fisheries, evaluates the status of the stock, estimates biological benchmarks, projects future population conditions, and recommends research and monitoring needs. The assessment is independently peer reviewed at the Review Workshop. The products of the Review Workshop are a Consensus Summary documenting Panel opinions regarding the strengths and weaknesses of the stock assessment and input data, and an Advisory Report summarizing stock status and recommending management criteria. Participants for SEDAR Workshops, appointed by the regional Fishery Management Councils, the SERO, and the SEFSC, include data collectors and database managers; stock assessment scientists, biologists, and researchers; constituency representatives including fishermen, environmentalists, and NGO's; International experts; and staff of Councils, Commissions, and state and federal agencies. SEDAR workshops are open to the public.

SEDAR 12 Workshop Schedule

July 24-28, 2006; SEDAR 12 Data Workshop

July 24, 2006: 1 p.m.-8 p.m.; July 25-27, 2006: 8 a.m.-8 p.m.; July 28, 2006: 8 a.m.-1 p.m. An assessment data set and associated documentation will be developed during the Data Workshop. Participants will evaluate all available data and select appropriate sources for providing information on life history characteristics, catch statistics, discard estimates, length and age composition, and fishery dependent and fishery independent measures of stock abundance.

October 16-20, 2006. SEDAR 12 Assessment Workshop

October 16, 2006: 1 p.m.-8 p.m.; October 17-19, 2006: 8 a.m.-8 p.m.; October 20, 2006: 8 a.m.-1 p.m. Using datasets provided by the Data Workshop, participants will develop population models to evaluate stock status, estimate population benchmarks and Sustainable Fisheries Act criteria, and project future conditions. Participants will recommend the most appropriate methods and configurations for determining stock status and estimating population parameters. Participants will prepare a workshop report, compare and contrast various assessment approaches, and determine whether the assessments are adequate for submission to the review panel.

January 29-February 2, 2007. SEDAR 12 Review Workshop

January 29, 2007: 1 p.m.-8 p.m.; January 30-February 1, 2007: 8 a.m.-8 p.m.; February 2, 2007: 8 a.m.-1 p.m.

The Review Workshop is an independent peer review of the assessment developed during the Data and Assessment Workshops. Workshop Panelist appointed by the Center for Independent Experts (CIE) will review the assessment and document their comments and recommendations in a Consensus Summary. The Panel will summarize recommended population parameter estimates in an Advisory Report.

Special Accommodations

These meetings are physically accessible to people with disabilities. Requests for sign language interpretation or other auxiliary aids should be directed to the Council office (see ADDRESSES) at least 5 business days prior to each workshop.

Dated: July 11, 2006.
Tracey L. Thompson,
Acting Director, Office of Sustainable Fisheries, National Marine Fisheries Service.

[FR Doc. E6-11160 Filed 7-13-06; 8:45 am]

BILLING CODE 3510-22-S